ENVIRONMENTAL PROTECTION AGENCY

[FRL-7638-4]

Proposed CERCLA Administrative Cost Recovery Settlement; Amber Oil Site, Milwaukee, WI

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement which includes compromise of past response costs incurred in connection with the Amber Oil site in Milwaukee, Wisconsin with the following settling parties: Ametek, Inc.; Arvin Meritor, Inc.; A-C Compressor, Corp.; Besly Products Corporation; Carlson Tool and Manufacturing Corp.; Charter Wire Div of Charter Manufacturing; Detroit Edge Tool Co.; Eco-Tech of Milwaukee, Inc.; Elenco Carbide Tool Corporation; Emerson Electric Co.; EOG Environmental, Inc.; Everbrite, LLC; The Falk Corporation; Graco Inc.; General Portable Products LLC (Briggs & Stratton Power Products LLC); Hafemeister Machine Corp.; Helgesen Industries; Ingersoll Equipment Co. Inc.; International Paper; International Truck and Engine Corporation; INX International Ink Co.; J&L Fiber Services, Inc.; Karl Schmidt Unisia, Inc.; Kettle Moraine Coatings, Inc.; Kingsbury, Inc.; Madison Kipp Corp; Manitowoc; Manitowoc Tool & Manufacturing; Menasha Corporation; Mercury Marine; The Metal Ware Corporation; Miller Brewing Company; Neenah Foundry Company; Nordco; Oshkosh Marine Supply Company; Oshkosh Truck Corporation; Peterson Industries LLC; Pierce Manufacturing Inc.; Precision Gears, Inc.; Regal-Beloit Corporation; Rietschle Thomas; Rollex Corporation; Rollmeister, Inc.; Seats, Inc.; Simplicity Manufacturing, Inc.; Sta-Rite Industries, Inc.; Stroh Die Casting Co., Inc.; Triangle Tool Corporation; Tulip Corporation; Union Pacific Railroad; Valleycast, Inc.; Vilter Manufacturing Corporation; The Vollrath Co., LLC; Waukesha Electric Systems, Inc.; and Weasler Engineering Inc. The settlement requires the settling parties to perform a removal action at the site estimated to cost approximately $900,000, and reimburse U.S. EPA Hazardous Substance Superfund for $15,000 of U.S. EPA's costs incurred before March 31, 2003, its costs incurred since April 1, 2003 to the signing of the consent order, and the cost of U.S. EPA to oversee the clean-up by the fifty-five settling parties. Past costs (U.S. EPA costs incurred prior to April 1, 2003) in the amount of $155,591 are being compromised in consideration of the settling parties' commitment to perform the removal and pay the costs described above. The settlement includes a covenant not to sue the settling parties pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The U.S. EPA's response to any comments received will be available for public inspection at the site record repository in the West Allis Public Library, 7421 West Nation Avenue, Milwaukee, Wisconsin, and at the U.S. EPA Record Center, Room 714, U.S. EPA, 77 West Jackson Boulevard, Chicago, Illinois.

DATES: Comments must be submitted to U.S. EPA on or before April 22, 2004.

ADDRESSES: The proposed settlement is available for public inspection at the U.S. EPA Record Center, Room 714, 77 West Jackson Boulevard, Chicago, Illinois. A copy of the proposed settlement may be obtained from U.S. EPA Record Center, Room 714, U.S. EPA, 77 West Jackson Boulevard, Chicago, Illinois or by calling tel. # (312)-353-5821. Comments should reference the Amber Oil site in Milwaukee, Wisconsin and EPA Docket No. V-W-'04-C-780 and should be addressed to Mr. Jerome Kujawa, U.S. EPA Office of Regional Counsel (C-14J), 77 West Jackson Boulevard, Chicago, Illinois 60604.

FOR FURTHER INFORMATION CONTACT: Mr. Jerome Kujawa, U.S. EPA Office of Regional Counsel (C-14J) at 77 West Jackson Boulevard, Chicago, IL 60604 or at tel.#(312)-886-6731.

Dated: February 27, 2004.
Richard C. Karl,
Acting Director, Superfund Division, Region 5, U.S. Environmental Protection Agency.

[FR Doc. 04-6428 Filed 3-22-04; 8:45 am]

BILLING CODE 6560-50-P